DEPARTMENT OF THE INTERIOR

Bureau of Indian Affairs

[DR.5B814.IA001213]

Renewal of Agency Information Collection for Reporting Systems for Demonstration Project

AGENCY: Bureau of Indian Affairs, Interior.

ACTION: Notice of submission to OMB.

SUMMARY: In compliance with the Paperwork Reduction Act of 1995, the Assistant Secretary—Indian Affairs is seeking comments on the renewal of Office of Management and Budget (OMB) approval for the collection of information for the Reporting System for the Indian Employment, Training, and Related Services Demonstration Act of 1992 (as amended) Demonstration Project authorized by OMB Control Number 1076-0135. This information collection expires December 31, 2013.

DATES: Interested persons are invited to submit comments on or before January 6, 2014.

ADDRESSES: You may submit comments on the information collection to the Desk Officer for the Department of the Interior at the Office of Management and Budget, by facsimile to (202) 395-5806 or you may send an email to: OIRA_Submission@omb.eop.gov. Please send a copy of your comments to Jack Stevens, Division Chief, Office of Indian Energy and Economic Development, Assistant Secretary—Indian Affairs, 1951 Constitution Avenue NW., MS-20 SIB, Washington, DC 20240; facsimile: (202) 208-4564; email: Jack.Stevens@bia.gov.

FOR FURTHER INFORMATION CONTACT: Jack Stevens, (202) 208-6764.

You may review the information collection request online at http://www.reginfo.gov. Follow the instructions to review Department of the Interior collections under review by OMB.

SUPPLEMENTARY INFORMATION:

I. Abstract

The Assistant Secretary—Indian Affairs is seeking renewal of the approval for the information collection conducted under OMB Control Number 1076-0135, Reporting System for Indian Employment, Training, and Related Services Demonstration Act of 1992 (as amended) (Pub. L. 102-477) Demonstration Project. This information allows the Office of Indian Energy and Economic Development (IEED) to document satisfactory compliance with statutory, regulatory, and other requirements of the various integrated programs. Public Law 102-477 authorizes tribal governments to integrate Federally funded employment, training, and related services and programs into a single, coordinated, comprehensive service delivery plan. Funding agencies include the Department of the Interior, the Department of Labor, and the Department of Health and Human Services. The Bureau of Indian Affairs (BIA) is statutorily required to serve as the lead agency and provides a single report format for use by tribal governments to report on integrated activities and expenditures. The IEED shares the information collected from these reports with the Department of Labor and the Department of Health and Human Services. No third party notification or public disclosure burden is associated with this collection.

II. Request for Comments

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0135.

Title: Reporting System for Public Law 102-477 Demonstration Project.

Brief Description of Collection: Public Law 102-477 authorizes tribal governments to integrate Federally-funded employment, training and related services programs into a single, coordinated, comprehensive delivery plan. BIA has made available a single format for Statistical Reports (IA 7702) for tribal governments to report on integrated activities undertaken within their projects, and a single format for Financial Reports (IA 7703) for tribal governments to report on all project expenditures. BIA will accept Standard Form 425 (OMB# 4040-0014) in lieu of IA 7703—Financial Status Report. Respondents that participate in Temporary Assistance for Needy Families (TANF) must provide information on an additional form (IA 7703A). A response is required to obtain or retain a benefit.

Type of Review: Extension without change of currently approved collection.

Respondents: Indian tribes participating in Public Law 102-477.

Number of Respondents: 62 on average.

Number of Responses: 62 on average.

Frequency of Response: Each respondent must supply the information for the Financial Status Report and Public Law 102-477 Demonstration Project Statistical Report once.

Estimated Time per Response: Ranges from 2 to 40 hours.

Estimated Total Annual Hour Burden: 3,566 hours.

Estimated Total Annual Non-Hour Dollar Cost: $310.

Dated: November 26, 2013.
John Ashley,
Acting Assistant Director for Information Resources.

[FR Doc. 2013-29169 Filed 12-5-13; 8:45 am]

BILLING CODE 4310-G1-P